DEPARTMENT OF HOMELAND SECURITY

Coast Guard

[Docket No. USCG-2015-0694]

Information Collection Request to Office of Management and Budget; OMB Control Number: 1625-0040

AGENCY: Coast Guard, DHS.

ACTION: Sixty-day notice requesting comments.

SUMMARY: In compliance with the Paperwork Reduction Act of 1995, the U.S. Coast Guard intends to submit an Information Collection Request (ICR) to the Office of Management and Budget (OMB), Office of Information and Regulatory Affairs (OIRA), requesting approval for reinstatement, without change, of the following collection of information: 1625-0040, Application for Merchant Mariner Credential (MMC), Application for Merchant Mariner Medical Certificate, Applications for Merchant Mariner Medical Certificate for Entry Level Ratings, Small Vessel Sea Service Form, DOT/USCG Periodic Drug Testing Form, Disclosure Statement for Narcotics, DWI/DUI,and/or Other Convictions, Merchant Mariner Medical Certificates, Recognition of Foreign Certificate. This is a resubmission of this ICR. Our ICR describes the information we seek to collect from the public. Before submitting this ICR to OIRA, the Coast Guard is inviting comments as described below.

DATES: Comments must reach the Coast Guard on or before December 26, 2017.

ADDRESSES: You may submit comments identified by Coast Guard docket number USCG-2015-0694 to the Coast Guard using the Federal eRulemaking Portal at http://www.regulations.gov. See the “Public participation and request for comments” portion of the SUPPLEMENTARY INFORMATION section for further instructions on submitting comments.

A copy of the ICR is available through the docket on the Internet at http://www.regulations.gov. Additionally, copies are available from: Commandant (CG-612), Attn: Paperwork Reduction Act Manager, U.S. Coast Guard, 2703 Martin Luther King, Jr. Ave. SE., Stop 7710, Washington, DC 20593-7710.

FOR FURTHER INFORMATION CONTACT: Contact Mr. Anthony Smith, Office of Information Management, telephone 202-475-3532, or fax 202-372-8405, for questions on these documents.

SUPPLEMENTARY INFORMATION:

Public Participation and Request for Comments

A sixty-day Notice was originally published in the Federal Register on October 15, 2017, and a thirty-day Notice published on February 17, 2017, for this ICR. This ICR is being resubmitted due to the length of time since publication of the thirty-day notice and to provide the public with an opportunity to further comment on this collection. We did receive one comment on this ICR during the prior submission and it is discussed below under the section, “Submitting comments.”

This Notice relies on the authority of the Paperwork Reduction Act of 1995; 44 U.S.C. Chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection.

The Coast Guard invites comments on whether this ICR should be granted based on the Collection being necessary for the proper performance of Departmental functions. In particular, the Coast Guard would appreciate comments addressing: (1) The practical utility of the Collection; (2) the accuracy of the estimated burden of the Collection; (3) ways to enhance the quality, utility, and clarity of information subject to the Collection; and (4) ways to minimize the burden of the Collection on respondents, including the use of automated collection techniques or other forms of information technology. In response to your comments, we may revise this ICR or decide not to seek reinstatement of the Collection. We will consider all comments and material received during the comment period.

We encourage you to respond to this request by submitting comments and related materials. Comments must contain the OMB Control Number of the ICR and the docket number of this request, [USCG-2015-0694], and must be received by December 26, 2017.

Submitting Comments

We encourage you to submit comments through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that Web site's instructions. Additionally, if you go to the online docket and sign up for email alerts, you will be notified when comments are posted.

We accept anonymous comments. All comments received will be posted without change to http://www.regulations.gov and will include any personal information you have provided. For more about privacy and the docket, you may review a Privacy Act notice regarding the Federal Docket Management System in the March 24, 2005, issue of the Federal Register (70 FR 15086).

We did receive one comment on the earlier submission of this ICR. The commenter requested that we provide more detail on the progress of an application while it is being processed. Although this is not a comment directed at the collection, we do provide the following response.

The Coast Guard provides process guides for the application of mariner credentials that are available upon the National Maritime Center (NMC) Web site at [http://www.dco.uscg.mil/Our-Organization/Assistant-Commandant-for-Prevention-Policy-CG-P/National-Maritime-Center/] which detail the processes that are followed for the evaluation of merchant mariners. Furthermore, during the mariner evaluation process, the applicants are provided email updates (if email address is provided) detailing the status of their application(s).

Information Collection Request

Title: Application for Merchant Mariner Credential (MMC), Application for Merchant Mariner Medical Certificate, Application for Merchant Mariner Medical Certificate for Entry Level Ratings, Small Vessel Sea Service Form, DOT/USCG Periodic Drug Testing Form, Disclosure Statement for Narcotics, DWI/DUI, and/or Other Convictions, Merchant Mariner Medical Certificate, Recognition of Foreign Certificate.

OMB Control Number: 1625-0040.

Summary: The Application for Merchant Mariner Credential (MMC), Application for Merchant Mariner Medical Certificate, Application for Merchant Mariner Medical Certificate for Entry Level Ratings, Small Vessel Sea Service Form, DOT/USCG Periodic Drug Testing Form, Disclosure Statement for Narcotics, DWI/DUI, and/or Other Convictions, contains the following information: Signature of applicant and supplementary material required to show that the mariner meets the mandatory requirements for the credential or medical certificate sought; proof of applicant passing all applicable vision, hearing, medical, and/or physical exams; negative chemical test for dangerous drugs; discharges or other documentary evidence of sea service indicating the name, tonnage, propulsion mode and power of the vessels, dates of service, capacity in which the applicant served, and on what waters; and disclosure documentation for narcotics, DWI/DUI, and/or other convictions.

Need: Title 46 United States Code (U.S.C.) Subtitle II, Part E, Title 46 Code of Federal Regulation (CFR) Part 10, Subpart B, and International Convention on Standards of Training, Certification and Watchkeeping for Seafarers, 1978, as amended (STCW Convention) and the STCW Code, including the STCW Final Rule (Docket No. USCG-2004-17914) published on December 24, 2013, requires MMC and Medical Certificate applicants to apply at one of the Coast Guard's seventeen Regional Examination Centers located nationwide. MMCs are established for individuals who are required to hold a credential under Subtitle II. The Coast Guard has the responsibility of issuing MMCs and Medical Certificates to applicants found qualified as to age, character, habits of life, experience, professional qualifications, and physical fitness. The instruments contained within OMB Control No. 1625-0040 serve as a means for the applicant to apply for a MMC and Medical Certificate.

Forms: CG-719B, Application for Merchant Mariner Credential (MMC); CG-719C, Disclosure Statement for Narcotics, DWI/DUI, and/or Other Convictions; CG-719K, Application for Merchant Mariner Medical Certificate; CG-719K/E, Application for Merchant Mariner Medical Certificate for Entry Level Ratings; CG-719S, Small Vessel Sea Service Form; CG-719P, DOT/USCG Periodic Drug Testing Form.

Respondents: Applicants for MMC, whether original, renewal, duplicate, raise of grade, or a new endorsement on a previously issued MMC. Applicants for Medical Certificates to include National and STCW credentialed mariners, and first-class pilots.

Frequency: On occasion.

Hour Burden Estimate: The estimated burden remains 47,444 hours a year (CG-719B = 8,475 hours, CG-719K = 16,440 hours, CG-719K/E = 2,283 hours, CG-719S = 14,125 hours, CG-719P = 4,708 hours, and CG-719C = 1,413).

Authority: The Paperwork Reduction Act of 1995; 44 U.S.C. Chapter 35, as amended.

Dated: October 17, 2017.
James D. Roppel,
U.S. Coast Guard, Acting Chief, Office of Information Management.

[FR Doc. 2017-23218 Filed 10-25-17; 8:45 am]

BILLING CODE 9110-04-P